DEPARTMENT OF VETERANS AFFAIRS

Veterans and Community Oversight and Engagement Board; Amended: Notice of Establishment

As required by Section 9(a)(2) of the Federal Advisory Committee Act, the Department of Veterans Affairs hereby gives notice of the establishment of the Veterans and Community Oversight and Engagement Board. The Veterans and Community Oversight and Engagement Board (Board) is a statutory committee established as required by Section 2(i) of the West Los Angeles Leasing Act of 2016, Public Law 114-226.

The Board will identify the goals of the community and Veteran partnership; provide advice and recommendations to the Secretary to improve services and outcomes for Veterans, members of the Armed Forces, and the families of such Veterans and members; and provide advice and recommendations on the implementation of the Draft Master Plan approved by the Secretary on January 28, 2016, and the implementation of any successor master plans.

Committee members will be appointed by the Secretary and membership will be drawn from various sectors and organizations. Not less than 50 percent of the board members shall be Veterans; the non-Veteran board members shall be family members of the Veterans, Veteran advocates, services providers, real estate professionals familiar with housing development projects, or stakeholders.

Any member of the public seeking additional information should contact Kellie Condon, Designated Federal Officer (DFO), Department of Veterans Affairs, 810 Vermont Avenue NW., Washington, DC, via email at kellie.condon@va.gov; or by phone at (805) 868-2076.

Dated: June 1, 2017.
Jelessa M. Burney,
Federal Advisory Committee Management Officer.

[FR Doc. 2017-11683 Filed 6-5-17; 8:45 am]

BILLING CODE P